ENVIRONMENTAL PROTECTION AGENCY

[FRL-9916-64-OW]

Meeting of the National Drinking Water Advisory Council

AGENCY: Environmental Protection Agency (EPA).

ACTION: Notice of a public meeting.

SUMMARY: The U.S. Environmental Protection Agency (EPA) is announcing a meeting of the National Drinking Water Advisory Council (Council), as authorized under the Safe Drinking Water Act (SDWA). The meeting is scheduled for November 6 and 7, 2014. The Council typically considers various issues associated with drinking water protection and public water systems. During this meeting, the Council will focus discussions on the approaches to regulating groups of carcinogenic volatile organic chemicals, harmful algal blooms, climate and drinking water issues and other program topics. In addition, the Council will also discuss options for compliance schedules relative to the Long Term 2 Enhanced Surface Water Treatment Rule.

DATES: The meeting on November 6, 2014, will be held from 8:30 a.m. to 5:00 p.m., eastern time, and on November 7, 2014, from 8:30 a.m. to 2:00 p.m., eastern time.

ADDRESSES: The public meeting will be held in Room 1117-A at the EPA William Jefferson Clinton East Building, 1201 Constitution Avenue NW., Washington, DC 20004. All attendees must go through a metal detector, sign in with the security desk and show government-issued photo identification to enter government buildings.

FOR FURTHER INFORMATION CONTACT: Members of the public who would like to register and receive pertinent information, present an oral statement or submit a written statement for the November 6 and 7 meeting should contact Roy Simon by October 17, 2014, by email at Simon.Roy@epa.gov; by phone at 202-564-3868; or by regular mail at the United States Environmental Protection Agency, Office of Ground Water and Drinking Water, William Jefferson Clinton East, (Mail Code 4601-M), 1200 Pennsylvania Avenue NW., Washington, DC 20460. Further details about participating in the meeting can be found in the SUPPLEMENTARY INFORMATION section.

SUPPLEMENTARY INFORMATION: Details about Participating in the Meeting: If you wish to attend the meeting, you should provide your email address when you register. The EPA will provide updated information on the November 6 and 7 meeting to registered individuals and organizations by October 29, 2014. The Council will allocate one hour for the public's input (1:00 p.m.-2:00 p.m., eastern time) at the meeting on November 7, 2014. Oral statements will be limited to five minutes at the meeting. It is preferred that only one person present a statement on behalf of a group or organization. To ensure adequate time for public involvement, individuals or organizations interested in presenting an oral statement should notify Roy Simon no later than October 17, 2014. Any person who wishes to file a written statement can do so before or after the Council meeting. Written statements intended for the meeting must be received by October 29, 2014, to be distributed to all members of the Council before any final discussion or vote is completed. Any statements received on or after the date specified will become part of the permanent file for the meeting and will be forwarded to the Council members for their information.

National Drinking Water Advisory Council: The Council was created by Congress on December 16, 1974, as part of the SDWA of 1974, Public Law 93-523, 42 U.S.C. 300j-5, and is operated in accordance with the provisions of the Federal Advisory Committee Act (FACA), 5 U.S.C. App.2. The Council was established under the SDWA to provide practical and independent advice, consultation and recommendations to the EPA Administrator on the activities, functions, policies and regulations required by the SDWA.

Special Accommodations: For information on access or services for individuals with disabilities, please contact Roy Simon at 202-564-3868 or by email at Simon.Roy@epa.gov. To request an accommodation for a disability, please contact Roy Simon at least 10 days prior to the meeting to give the EPA as much time as possible to process your request.

Dated: September 8, 2014.
Peter Grevatt,
Director, Office of Ground Water and Drinking Water.

[FR Doc. 2014-22060 Filed 9-15-14; 8:45 am]

BILLING CODE 6560-50-P